NUCLEAR REGULATORY COMMISSION

[NRC-2015-0194]

Biweekly Notice; Applications and Amendments to Facility Operating Licenses and Combined Licenses Involving No Significant Hazards Considerations

Correction

Due to a scheduling error, NRC notice document 2014-20138, 80 FR 48920, published August 14, 2015, four days earlier than the agency intended. Due to this error the DATES: section for this notice is corrected to read as follows:

DATES: Comments must be filed by September 14, 2015. A request for a hearing must be filed by October 13, 2015.

[FR Doc. 2015-20701 Filed 8-19-15; 8:45 am]

BILLING CODE 1505-01-D